DEPARTMENT OF LABOR

Employee Benefits Security Administration

Advisory Council on Employee Welfare and Pension Benefit Plans Nominations for Vacancy; Insurance Representative

Section 512 of the Employee Retirement Income Security Act of 1974 (ERISA), 88 Stat. 895, 29 U.S.C. 1142, provides for the establishment of an Advisory Council on Employee Welfare and Pension Benefit Plans (the Council), consisting of 15 members appointed by the Secretary of Labor (the Secretary) as follows:

• Three representatives of employee organizations (at least one of whom shall be a representative of an organization whose members are participants in a multiemployer plan);

• three representatives of employers (at least one of whom shall be a representative of employers maintaining or contributing to multiemployer plans);

• three representatives from the general public (one of whom shall be a person representing those receiving benefits from a pension plan); and

• one representative each from the fields of insurance, corporate trust, actuarial counseling, investment counseling, investment management, and accounting.

No more than eight members of the Council shall be members of the same political party.

Council members must be qualified to appraise the programs instituted under ERISA. The Council's prescribed duties are to advise the Secretary with respect to carrying out his functions under ERISA, and to submit to the Secretary, or his designee, related recommendations. The Council will meet at least four times each year.

This notice seeks nominations for an individual to fill a vacancy on the Council representing the field of insurance. This vacancy is due to the resignation of a member whose term would have expired on December 31, 2022. As such, the individual selected to fill the vacancy will begin serving upon appointment and will serve until December 31, 2022, in accordance with ERISA section 512(a)(4). Note that this solicitation is only to fill the vacant insurance representative position noted above. There will be a separate request published this summer for nominations for individuals to fill five additional positions that will become vacant at the end of 2021.

If you or your organization wants to nominate one or more people for appointment to the Council to represent the group or field of insurance, submit nominations to Christine Donahue, Council Executive Secretary, as email attachments to donahue.christine@dol.gov or by mail to U.S. Department of Labor, 200 Constitution Ave. NW, Suite N-5700, Washington, DC 20210. Nominations must be received on or before June 14, 2021. The Department will not consider nominations received after June 14, 2021. If sending electronically, please use an attachment in rich text, Word, or pdf format. Please allow three weeks for regular mail delivery to the Department of Labor. Nominations may be in the form of a letter, resolution, or petition signed by the person making the nomination or, in the case of a nomination by an organization, by an authorized representative of the organization. The Department of Labor encourages you to include additional supporting letters of nomination. The Department of Labor will not consider self-nominees who have no supporting letters.

Nominations, including supporting letters, should:

• State the person's qualifications to serve on the Council (including any particular specialized knowledge or experience relevant to the nominee's proposed Council position);

• state that the candidate will accept appointment to the Council if offered;

• include the nominee's full name, work affiliation, mailing address, phone number, and email address;

• include the nominator's full name, work affiliation, mailing address, phone number, and email address;

• include the nominator's signature, whether sent by email or otherwise.

Please do not include any information that you do not want publicly disclosed.

The Department of Labor is committed to equal opportunity in the workplace and seeks a broad-based and diverse Council. The Department of Labor will contact nominees for information on their political affiliation and their status as registered lobbyists. Anyone currently subject to federal registration requirements as a lobbyist is not eligible for appointment. Additionally, nominees will be evaluated in accordance with Secretary's Order 10-2020 (85 FR 71104) to ensure they are financially independent from the Department programs and activities for which they may be called upon to provide advice. Nominees should be aware of the time commitment for attending meetings and actively participating in the work of the Council. Historically, this has meant a commitment of at least 20 days per year. The Department of Labor has a process for vetting nominees under consideration for appointment.

Signed at Washington, DC, this 6th day of May, 2021.
Ali Khawar,
Acting Assistant Secretary, Employee Benefits Security Administration.

[FR Doc. 2021-10090 Filed 5-12-21; 8:45 am]

BILLING CODE 4510-29-P